SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before February 25, 2002.

ADDRESSES: Send all comments regarding whether these information collections are necessary for the proper performance of the function of the agency, whether the burden estimates are accurate, and if there are ways to minimize the estimated burden and enhance the quality of the collections, to Saunders Miller, Senior Policy Advisor, Office of Investment Division, Small Business Administration, 409 3rd Street, SW., Suite 6300, Washington DC 20416.

FOR FURTHER INFORMATION CONTACT: Saunders Miller, Senior Policy Advisor, (202) 205-3545 or Curtis B. Rich, Management Analyst, (202) 205-7030.

SUPPLEMENTARY INFORMATION: Title: SBIC License Application, Part, 1 Incorporating the Management Assessment Questionnaire.

Form No: 2181.

Description of Respondents: Applicants for SBIC Licenses.

Annual Responses: 90.

Annual Burden: 160.

Title: SBIC License Application, Part, II, and Exhibits to the License Application.

Form No: 2182.

Description of Respondents: Applicants for SBIC Licenses.

Annual Responses: 60.

Annual Burden: 160.

Title: SBIC License Application, Part, III, Exhibits to the Management Assessment Questionnaire.

Form No: 2183.

Description of Respondents: Applicants for SBIC Licenses.

Annual Responses: 90.

Annual Burden: 160.

Jacqueline White,
Chief, Administrative Information Branch.

[FR Doc. 01-31649 Filed 12-21-01; 8:45 am]

BILLING CODE 8025-01-P